DEPARTMENT OF AGRICULTURE

Office of the Secretary

Agency Information Collection Activities; Outreach and Assistance to Socially Disadvantaged Farmers and Ranchers and Veteran Farmers and Ranchers Program (2501 Program) Application and Performance Reporting

ACTION: Notice; request for comments.

SUMMARY: In accordance with the Paperwork Reduction Act of 1995 and Office of Management and Budget (OMB) regulations, this notice announces the Office of Partnerships and Public Engagement's intention to request a new information collection titled “Outreach and Assistance to Socially Disadvantaged Farmers and Ranchers and Veteran Farmers and Ranchers Program (2501 Program) Application and Performance Reporting.”

DATES: We will consider comments we receive by July 29, 2024.

ADDRESSES: We invite you to submit comments on this notice.

Electronic Submission of Comments. You may submit comments electronically through the Federal eRulemaking Portal: http://www.regulations.gov. Follow the instructions provided on that site to submit comments electronically.

Submission of Comments by Mail, Hand delivery, or Courier. You may submit comments to the USDA, Office of Partnerships and Public Engagement, Jamie L. Whitten Building, Room 524A, Mail Stop 0601, 1400 Independence Ave. SW, Washington, DC 20250. USDA strongly encourages commenters to submit comments electronically. Electronic submission of comments allows you maximum time to prepare and submit a comment and ensures timely receipt by USDA.

FOR FURTHER INFORMATION CONTACT: Kim Okahara, Performance Improvement Officer, 202-720-6350, kim.okahara@usda.gov.

SUPPLEMENTARY INFORMATION:

Title of Collection: Outreach and Assistance to Socially Disadvantaged Farmers and Ranchers and Veteran Farmers and Ranchers Program (2501 Program) Application and Performance Reporting.

OMB Control Number: 0503-New.

Type of Request: Notice of intent to request a new information collection entitled “Outreach and Assistance to Socially Disadvantaged Farmers and Ranchers and Veteran Farmers and Ranchers Program (2501 Program) Application and Performance Reporting.”

Abstract: The 2501 program at the U.S. Department of Agriculture (USDA) makes competitively awarded grants to community-based and non-profit organizations, institutions of higher education, and Tribal entities to provide education and training in agriculture, agribusiness, forestry, agricultural-related services, and USDA programs, develop underserved youths' interest in agriculture, and conduct outreach initiatives.

The objectives of the 2501 Program are to support socially disadvantaged farmers and ranchers, military veteran farmers and ranchers, and beginning farmers and ranchers with owning and operating successful farms and ranches and participating equitably in the full range of agricultural, forestry, and related programs offered by USDA. The Agriculture Improvement Act of 2018 (2018 Farm Bill) authorizes grants to enhance coordination of the outreach, technical assistance, and education efforts authorized under agriculture programs; and to assist the Secretary in reaching current and prospective socially disadvantaged farmers and ranchers and veteran farmers and ranchers in a linguistically appropriate manner; and improving the participation of those farmers and ranchers in Department programs (7 U.S.C. 2279).

Applications: The application package required for eligible entities includes the following: Standard Form (SF) 424; Application for Federal Assistance; Project/Performance Site Location(s); Project Abstract Summary; Project Narrative; Standard Form (SF) 424A; Budget Information—Non-Construction Programs; Budget Narrative; Key Contacts (list names of all key personnel expected to work on the project); Grants.gov Lobbying Form; Resumes of all key personnel working on the project; and related documentation (e.g., Articles of Incorporation for all nonprofit organizations, 501(c)3 status documentation).

Performance Reports: Grant recipients are required to submit semi-annual progress reports on their activities and a final performance report at the end of the award period. Under 7 U.S.C. 2279(c)(4)(D), USDA must submit to Congress an annual report that includes the following:

• The recipients of funds made available under the program;

• The activities undertaken and services provided;

• The number of current and prospective socially disadvantaged farmers or ranchers served and outcomes of such service;

• The problems and barriers identified by entities in trying to increase participation by current and prospective socially disadvantaged farmers or ranchers;

• The number of farms or ranches started, maintained, or improved as a result of funds made available under the program; and

• Actions taken by the Secretary in partnership with eligible entities to enhance participation in agricultural programs by veteran farmers or ranchers and socially disadvantaged farmers or ranchers and the effectiveness of those actions.

USDA will use the information collected to:

1. Assess program eligibility and compliance with program requirements;

2. Complete the annual report to Congress as required by 7 U.S.C. 2279(c)(4)(D);

3. Comply with the newly revised guidance on the collection of demographic information, per OMB Statistical Policy Directive No. 15;

4. Comply with the reporting requirements under the Government Performance and Results Modernization Act and Foundations of Evidence-based Policymaking Act; and

5. Assess the progress of grant recipients regarding measurable goals.

Data collected from the grantees will provide a nationwide description of activities funded under the 2501 Program to reach current and prospective socially disadvantaged farmers and ranchers and veteran farmers and ranchers in a linguistically appropriate manner and improve the participation of those farmers and ranchers in Department programs. Data collected from grantees will also provide information for usage by Congress, the Department, and the public. In addition, USDA will use this data to inform program management, monitoring, and technical assistance efforts. Grantees will be able to use the data for internal management and program improvement.

Estimated Program Burden: USDA estimates the burden of this collection of information as follows. The information collection has three parts:

(A) Grants.gov collects data from applicants. Applicants submit their application package to USDA using grants.gov. The estimated average amount of time required to complete the application package is 160 hours annually. The estimated response burden includes time to review instructions, gather existing data, and complete and review the application. These estimates are based on the experience of former grantees who have previously applied to the program.

(B) A web-based system that collects data from grantees. Grantees report to USDA using a web-based data collection system. The estimated average amount of time required to complete all responses to the data collection instrument is 20 hours per report, or 40 hours annually. We anticipate an additional 10 burden hours for those completing a final report, which is approximately ⅓ of grantee organizations each year. All grantees will complete two semiannual reports, regardless of whether or not they are completing a final report, as the semiannual report serves to provide data on the preceding six-month period, while the final report covers the entire grant period. Additionally, the estimated number of respondents per year is higher than the total number of grantees funded over three years, to account for no-cost extensions to existing grant agreements. The estimated response burden includes time to review the instructions, gather existing data, and complete and review the data entries. These estimates are based on the current time reported by grantees to respond to reports, as well as efficiencies in the new web-based system anticipated by the staff who implement these programs.

(C) A follow-up survey that grantees collect from program participants. Many grantees currently ask program participants to complete surveys after attending a program offering or at the completion of a training program to assess the effectiveness and relevance of the training content to the needs of the participant. In this case, we are proposing that OPPE will survey program participants directly in order fulfill reporting requirements to Congress on the success of the program in meeting its performance measures. This information will be used by USDA to measure the program's overall performance from the perspective of program participants. Historical data from grantees regarding burden hours is helpful, but not especially relevant here, as currently grantees create their own feedback surveys that are not consistent across different grantee organizations. We have estimated the number of burden hours for this item based on the number of questions and whether they are multiple choice, short answer, or paragraph responses requested. In this estimate, we also anticipate administering the survey longitudinally by requesting responses from participants at 3 different time intervals.

Respondent/data collection activity | Estimated number of respondents | Responses per respondent | Hours per response | Annual burden hours
Application | 120 | 1 | 160 | 19,200
Semiannual performance report | 150 | 2 | 20 | 6,000
Final performance report | 50 | 1 | 30 | 1,500
Follow-up survey (or course evaluation) (ArcGIS Survey 123) | 5,000 | 3 | .5 | 7,500
Total |  |  |  | 34,200

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

USDA will consider the comments received and amend the Information Collection Request (ICR) as appropriate. The final ICR package will then be submitted to OMB for review and approval. At that time, USDA will issue another Federal Register notice to announce the submission of the ICR to OMB and the opportunity to submit additional comments to OMB.

Lisa Ramirez,
Director, Office of Partnerships and Public Engagement, U.S. Department of Agriculture.

[FR Doc. 2024-11906 Filed 5-29-24; 8:45 am]

BILLING CODE P